SMALL BUSINESS ADMINISTRATION

[Disaster Declaration # 10442 and # 10443]

Missouri Disaster #MO-00003

AGENCY: U.S. Small Business Administration.

ACTION: Notice.

SUMMARY: This is a Notice of the Presidential declaration of a major disaster for the State of Missouri (FEMA-1635-DR), dated 04/05/2006.

Incident: Severe Storms, Tornadoes, and Flooding.

Incident Period: 03/30/2006 through 04/03/2006.

Effective Date: 04/05/2006.

Physical Loan Application Deadline Date: 06/05/2006.

Economic Injury (EIDL) Loan Application Deadline Date: 01/05/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 04/05/2006, applications for disaster loans may be filed at the address listed above or other locally announced locations.

The following areas have been determined to be adversely affected by the disaster:

Primary Counties (Physical Damage and Economic Injury Loans): Pemiscot.

Contiguous Counties (Economic Injury Loans Only): Missouri: Dunklin, New Madrid. Arkansas: Mississippi, Tennessee: Dyer, Lake.

The Interest Rates are:

| Percent
For Physical Damage:
Homeowners With Credit Available Elsewhere | 5.750
Homeowners Without Credit Available Elsewhere | 2.875
Businesses With Credit Available Elsewhere | 7.408
Other (Including Non-Profit Organizations) With Credit Available Elsewhere | 5.000
Businesses and Non-Profit Organizations Without Credit Available Elsewhere | 4.000
For Economic Injury:
Businesses and Small Agricultural Cooperatives Without Credit Available Elsewhere | 4.000

The number assigned to this disaster for physical damage is 10442 C and for economic injury is 10443 0.

(Catalog of Federal Domestic Assistance Numbers 59002 and 59008)

Cheri L. Cannon,
Acting Associate Administrator for Disaster Assistance.

[FR Doc. E6-5640 Filed 4-14-06; 8:45 am]

BILLING CODE 8025-01-P